NATIONAL SCIENCE FOUNDATION

Notice of Permit Applications Received Under the Antarctic Conservation Act of 1978 (Pub. L. 95-541)

AGENCY: National Science Foundation.

ACTION: Notice of Permit Applications Received under the Antarctic Conservation Act of 1978, (Pub. L. 95-541).

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 15, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows: 1. Applicant: William R. Fraser, Polar Oceans Research Group, P.O. Box 368, Sheridan, MT 59749. Permit Application No. 2008-020.

Activity for Which Permit Is Requested

Take and enter Antarctic Specially Protected Areas. The applicant plans to enter Litchfield Island (ASPA #113), Biscoe Point, Anvers Island (ASPA #139), Avian Island (ASPA #117), Dion Islands (ASPA #107), and Lagotellerie Island (ASPA 115) to study the variability of seabird ecology to changes in the physical and biological environment, especially sea ice, snow conditions and the availability of pretty. The applicant will census seabird populations and mark breeding territories; capture, mark, band and weigh select numbers of adults, chicks and eggs; obtain diet data through stomach lavage; place transmitters on individuals to develop foraging and dispersal profiles; place artificial eggs under incubating individuals to measure heart-rate and body temperatures; use GIS/GPS technologies to update existing breeding habitat maps; and, sample tissues, feathers, blood, preen gland oil for stable isotope levels.

Location

Litchfield Island (ASPA #113), Biscoe Point, Anvers Island (ASPA #139), Avian Island (ASPA #117), Dion Islands (ASPA #107), and Lagotellerie Island (ASPA 115).

Dates

October 1, 2007 to September 30, 2012.

2. Applicant: William R. Fraser, Polar Oceans Research Group, P.O. Box 368, Sheridan, MT 59749. Applicant Permit Application No. 2008-021.

Activity for Which Permit Is Requested

Take, and Import into the U.S.A. The applicant take and release up to 500 Adelie Penguins, Chinstrap Penguins, Gentoo Penguins, Brown Skuas South Polar Skuas Southern Giant Petrels, Blue-eyed Shags and Kelp Gulls. The applicant will: census seabird populations and mark breeding territories; capture, mark, band and weigh select numbers of adults, chicks and eggs; obtain diet data through stomach lavage; place transmitters on individuals to develop foraging and dispersal profiles; place artificial eggs under incubating individuals to measure heart-rate and body temperatures; use GIS/GPS technologies to update existing breeding habitat maps; and, sample tissues, feathers, blood, preen gland oil for stable isotope levels.

Location

Palmer Station, Marguerite Bay and vicinity.

Dates

October 1, 2007 to September 30, 2012.

3. Applicant: William R. Fraser, Polar Oceans Research Group, P.O. Box 368, Sheridan, MT 59749. Permit Application No. 2008-022.

Activity for Which Permit Is Requested

Take. The applicant plans to salvage seabird specimens that have died of natural causes. The specimens will be used for educational purposes at teaching and research institutions.

Location

Palmer Station, Marguerite Bay and vicinity.

Dates

October 1, 2007 to September 30, 2012.

Nadene G. Kennedy,
Permit Officer, Office of Polar Programs.

[FR Doc. E7-18020 Filed 9-12-07; 8:45 am]

BILLING CODE 7555-01-P